DEPARTMENT OF THE INTERIOR

Bureau of Land Management

[L1610000.PQ0000/LLCAC09000]

Notice of Availability of the Clear Creek Management Area Proposed Resource Management Plan and Final Environmental Impact Statement, California

AGENCY: Bureau of Land Management, Interior.

ACTION: Notice of Availability.

SUMMARY: In accordance with the National Environmental Policy Act of 1969, as amended, and the Federal Land Policy and Management Act of 1976, as amended, the Bureau of Land Management (BLM) has prepared a Proposed Resource Management Plan (RMP)/Final Environmental Impact Statement (EIS) for the Clear Creek Management Area (CCMA) and by this notice is announcing its availability.

DATES: BLM planning regulations (43 CFR 1610) state that any person who meets the conditions as described in the regulations may protest the BLM's Proposed RMP and Final EIS. A person who meets the conditions and files a protest, must file the protest within 30 days of the date that the Environmental Protection Agency (EPA) publishes its notice in the Federal Register.

ADDRESSES: Copies of the CCMA Proposed RMP and Final EIS have been sent to affected Federal, State, and local government agencies and to other stakeholders. Copies of the CCMA Proposed RMP and Final EIS are available for public inspection at the Hollister Field Office, 20 Hamilton Court, Hollister, California 95023. Interested persons may also review the CCMA Proposed RMP and Final EIS at the following Web site: http://www.blm.gov/ca/hollister. All protests must be in writing and mailed to one of the following addresses:

Regular Mail: BLM Director (210) , Attention: Brenda Williams, P.O. Box 71383, Washington, DC 20024-1383.

Overnight Mail: BLM Director (210), Attention: Brenda Williams, 20 M Street SE., Room 2134LM, Washington, DC 20003.

FOR FURTHER INFORMATION CONTACT: Sky Murphy, Planning and Environmental Coordinator, telephone (831) 630-5039; address Hollister Field Office, 20 Hamilton Court, Hollister, California 95023; email smurphy@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area covers about 75,000 acres, including about 63,000 surface acres and 64,000 acres of subsurface mineral estate in San Benito and Fresno counties, California. The CCMA RMP will provide a framework to guide management decisions for the use and protection of the resources managed by the Hollister Field Office. The CCMA is currently managed under the 1984 Hollister RMP and subsequent amendments. The purpose of the CCMA RMP is to establish goals, objectives, and management actions for BLM-administered lands in CCMA that address current issues, and conditions.

The need to develop the CCMA RMP arose from changes in circumstances since the current land use plan decisions were adopted. For example, the EPA's CCMA Asbestos Exposure and Human Health Risk Assessment (2008) provides significant new information that must be incorporated into the RMP to evaluate the public health risk associated with BLM land use authorizations.

A Notice of Availability of the CCMA Draft RMP/EIS was published in the Federal Register on December 4, 2009. The Draft RMP/EIS was available for public review for 135 days. Comments on the Draft RMP/EIS were considered, and incorporated as appropriate into the proposed plan. For example, the BLM made changes to the route and trail designations between the Draft and Final EIS. These changes did not significantly alter the proposed land use decisions for transportation and travel management in the CCMA.

The Hollister Field Office, through a collaborative planning process, has worked extensively with interested and affected individuals, groups, and local, State, and Federal agencies in the development of the Proposed RMP and Final EIS. The primary issues include public health and safety, recreation, protection of sensitive natural and cultural resources, livestock grazing, guidance for energy and mineral development, and land tenure adjustments. The Proposed RMP maintains the designation of the 30,000-acre Serpentine Area of Critical Environmental Concern (ACEC) to protect public health and safety while also protecting special status species and cultural, historic, and scenic resources values. Restrictions on use of public lands within the Serpentine ACEC include limitations on motorized and non-motorized activities to minimize human health risks from exposure to asbestos by reducing airborne emissions of asbestos.

For example, the CCMA Proposed RMP designates the Serpentine ACEC as a “limited” vehicle use area based on the human health risks from exposure to asbestos; and use would be limited to highway-licensed vehicles by permit only. Under the Proposed RMP, the remaining lands in the CCMA management zones are also designated as “limited” vehicle use areas where motorized vehicle use would be limited to highway-licensed vehicles and all-terrain vehicles. In addition to the proposed action, the BLM considered six additional alternatives, ranging from a no action alternative, which would continue historic recreational use in the area, to complete closure of the area prohibiting all public access. Other action alternatives analyzed variations of limited annual visitor use days, seasonal use restrictions, limited OHV recreation opportunities in the Serpentine ACEC based on vehicle types, minimum age requirements, vehicle access for non-motorized recreation opportunities inside the Serpentine ACEC, and enhancing new OHV recreation opportunities outside of the ACEC.

Comments on the Draft RMP/EIS received from the public and through internal BLM review were considered and incorporated as appropriate into the Proposed RMP/Final EIS. Public comments resulted in the following changes to the preferred alternative in the Draft RMP/EIS: additional information added to the Hazardous Materials and Public Health and Safety section; increased miles of designated routes to provide greater vehicle access with an emphasis on supporting non-motorized recreation opportunities in CCMA; retention of public lands surrounding Baker, Byles, and Cane Canyons; and pursuit of partnerships with local private landowners, non-profit organizations, and the California Department of Fish and Wildlife to develop public easements to BLM lands in the Tucker management zone. These changes do not significantly change proposed land use plan decisions set forth in the Draft RMP/EIS.

Instructions for filing a protest with the Director of the BLM regarding the CCMA Proposed RMP and Final EIS may be found in the “Dear Reader” letter of the CCMA Proposed RMP and Final EIS and at 43 CFR 1610.5-2. All protests must be in writing and mailed to the appropriate address, as set forth in the ADDRESSES section above. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct emails to bhudgens@blm.gov and faxed protests to the attention of the BLM protest coordinator at 202-912-7212.

Before including your phone number, email address, or other personal identifying information in your protest, you should be aware that your entire protest—including your personal identifying information—may be made publicly available at any time. While you can ask us in your protest to withhold your personal identifying information from public review, we cannot guarantee that we will be able to do so.

Authority: 40 CFR 1506.6 and 1506.10, 43 CFR 1610.2 and 1610.5.

Thomas Pogacnik,
Deputy State Director.

[FR Doc. 2013-07337 Filed 3-28-13; 8:45 am]

BILLING CODE 4310-40-P